ADVISORY COMMISSION ON ELECTRONIC COMMERCE

Meetings

The Advisory Commission on Electronic Commerce was established by Public Law 105-277 to conduct a thorough study of federal, state, local and international taxation and tariff treatment of transactions using the Internet and Internet access and other comparable intrastate, interstate or international sales activities. The Commission is to report its findings and recommendations to Congress no later than April 21, 2000. Notice is hereby given, that the Advisory Commission on Electronic Commerce has scheduled a meeting by telephone conference call on Monday, April 10, 2000, at a time to be determined. Meetings of the Commission shall be open to the public. This meeting will be audiocast live on the World Wide Web. The audiocast will be accessible from the “Calendar/Meetings” page of the Commission's Web site, www.ecommercecommission.org/calendar.htm. The time for the meeting will be posted on the Web site no later than Friday, April 7, 2000. A verbatim transcript of this meeting will be posted on the Web site no later than April 24, 2000.

Oral comments from the public will be excluded at this meeting.

A listing of the members of the Commission and details concerning their appointment were published in the Federal Register on June 9, 1999, at 64 FR 30958.

Heather Rosenker,
Executive Director.

[FR Doc. 00-7594 Filed 3-24-00; 8:45 am]

BILLING CODE 0000-00